NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 22, 2007. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-03-3, 7 items, 3 temporary items). Research and development case files and electronic copies of technical reports at technical libraries. Proposed for permanent retention are security-classified case files retired to a records center before 2008, sets of technical reports dated 2008 and later that are maintained by the project scientist, engineer, or manager, and paper copies of technical reports. This schedule authorizes the agency to apply the proposed disposition instructions to any recordkeeping medium.

2. Department of Defense, Defense Threat Reduction Agency (N1-374-05-2, 2 items, 1 temporary item). Records relating to agency protocol for official staff visits. Included are such records as agendas, itineraries, seating charts, briefing materials and audiovisual documentation. Proposed for permanent retention are official agency news publications. This schedule authorizes the agency to apply the proposed disposition instructions to any recordkeeping medium.

3. Department of Defense, Joint Staff (N1-218-06-3, 4 items, 4 temporary items). Inputs, master files, outputs, and system documentation for an electronic information system which updates and tracks the implementation of change recommendations.

4. Department of Defense, Joint Staff (N1-218-07-1, 4 items, 4 temporary items). Inputs, master files, outputs, and system documentation for an electronic information system which tracks the process of scheduling currency reviews for directives.

5. Department of Defense, Joint Staff (N1-218-07-2, 2 items, 2 temporary items). Master file and system documentation for an electronic information system which updates and tracks billets and personnel.

6. Department of Defense, Joint Staff (N1-218-07-3, 2 items, 2 temporary items). Master file and system documentation for an electronic information system which assesses and analyzes potential scenarios such as humanitarian efforts or combat situations.

7. Department of Health and Human Services, National Institutes of Health (N1-443-07-3, 3 items, 3 temporary items). Executed and non-executed Cooperative Research and Development Agreements. Paper recordkeeping copies of executed agreements were previously approved for disposal. This schedule authorizes the agency to apply the proposed disposition instructions to any recordkeeping medium.

8. Department of Homeland Security, National Protection and Programs Directorate (N1-563-07-10, 2 items, 2 temporary items). Master files and outputs of the Master Station Log database, which contains information about events that may constitute a threat to critical telecommunications infrastructure. This schedule authorizes the agency to apply the proposed disposition instructions to any recordkeeping medium, except for master files.

9. Department of the Interior, National Park Service (N1-79-07-1, 7 items, 2 temporary items). Records relating to activities of the Lowell Historic Preservation Commission (1978-1995), and predecessor, Lowell Historical Canal District Commission (1972-1977), which were responsible for the planning, preservation and development of the Lowell Historic Canal District in Massachusetts. Proposed for permanent retention are recordkeeping copies of publications, meeting minutes, procedures, news clippings, and photographs.

10. Department of Justice, Bureau of Prisons (N1-129-07-14, 5 items, 5 temporary items). Records associated with an Internet Web site created to provide general public information and documentation regarding agency mission and policies.

11. Department of Justice, Federal Bureau of Investigation (N1-65-07-11, 1 item, 1 temporary item). This schedule requests authority to destroy case number 270F-IP-90916, which pertains exclusively to the investigation of the captioned individual and is unscheduled. This request responds to a Federal Pre-Trial Diversion Program court order to delete the records of the captioned individual.

12. Department of Justice, Federal Bureau of Investigation (N1-65-07-12, 6 items, 6 temporary items). Inputs, outputs, master file, audit data, and system documentation for an electronic information system which provides case management for active investigations by the agency and other law enforcement agencies.

13. Department of Justice, Federal Bureau of Investigation (N1-65-07-14, 2 items, 1 temporary item). Briefings related to administrative, financial, and management issues. Proposed for permanent retention are recordkeeping copies of briefing materials related to policies, organization, and other program issues. Briefings related to investigations are filed within the case file and the retention for the case file will be applied.

14. Department of Justice, Federal Bureau of Investigation (N1-65-07-15, 1 item, 1 temporary item). This schedule requests authority to destroy case number 198-LV-35676, which pertains exclusively to the investigation of the captioned individual and meets the criteria in previous schedule N1-65-88-3 for permanent retention. This request responds to a Federal Pre-Trial Diversion Program court order to delete the records of the captioned individual.

15. Department of the Treasury, Internal Revenue Service (N1-58-06-9, 11 items, 11 temporary items). Office of Professional Responsibility records relating to registering, terminating, and disciplining enrolled agents who practice before the Internal Revenue Service.

16. Department of the Treasury, Internal Revenue Service (N1-58-07-12, 3 items, 3 temporary items). Master file, outputs, and system documentation for an electronic information system which tracks tax filing non-compliance of IRS employees.

17. Department of the Treasury, Internal Revenue Service (N1-58-07-13, 4 items, 4 temporary items). Form 8840, Closer Connection Exception Statement for Aliens, and Form 8843, Statement for Exempt Individuals and Individuals with a Medical Condition.

18. Commodity Futures Trading Commission, Division of Enforcement (N1-180-07-2, 1 item, 1 temporary item). This schedule authorizes the agency to apply the existing disposition instructions to a records series regardless of the recordkeeping medium. Included are records relating to closed enforcement cases. Paper, audio, and video recordkeeping copies of these files were previously approved for disposal.

19. Environmental Protection Agency, Agency-wide (N1-412-07-12, 1 item, 1 temporary item). This schedule authorizes the agency to apply the existing disposition instructions to a records series regardless of the recordkeeping medium. Included are records relating to library programs. Paper recordkeeping copies of these files were previously approved for disposal.

20. Environmental Protection Agency, Office of the General Counsel (N1-412-07-53, 11 items, 10 temporary items). This schedule authorizes the agency to apply the existing disposition instructions to a number of records series regardless of the recordkeeping medium. The record series include board of contract appeals cases, Government Accountability Office contract bid protest cases, defensive litigation case files exclusive of enforcement actions, reviews of state enforcement and environmental standards, information law and intellectual property files, and general law files relating to claims, personnel and other matters. Paper recordkeeping copies of these files were previously approved for disposal. Also included are records relating to legal opinions and interpretations, for which paper recordkeeping copies previously were approved as permanent.

21. Federal Energy Regulatory Commission, Agency-wide (N1-138-06-3, 1 item, 1 temporary item). Reports from natural gas pipeline companies concerning interrupted service and damaged facilities. Included are dates, causes, and locations of service interruptions and/or facilities damaged and communications about restoration of service or facilities.

22. National Archives and Records Administration, Office of Regional Records Services (N1-64-07-5, 21 items, 20 temporary items). Records relating to the operation and administration of Federal Records Centers and Regional Archives. Proposed for permanent retention are recordkeeping copies of program records of the Regional Administrators.

23. National Commission on Libraries and Information Science, Agency-wide (N1-220-07-1, 5 items, 2 temporary items). Routine still photographs in analog or digital format and audio recordings of meetings made for transcription. Proposed for permanent retention are mission-related photographs in digital or analog format, associated finding aids, and posters documenting historically significant activities.

Dated: September 17, 2007.
Michael J. Kurtz,
Assistant Archivist for Records Services, Washington, DC.

[FR Doc. E7-18627 Filed 9-20-07; 8:45 am]

BILLING CODE 7515-01-P